DEPARTMENT OF HOMELAND SECURITY

Federal Emergency Management Agency

44 CFR Part 296

[Docket ID FEMA-2022-0037]

RIN 1660-AB14

Notification of Public Meetings on Hermit's Peak/Calf Canyon Fire Assistance

AGENCY: Federal Emergency Management Agency (FEMA), Department of Homeland Security (DHS).

ACTION: Announcement of additional in-person public meetings.

SUMMARY: FEMA will hold additional in-person public meetings to solicit public feedback about the Hermit's Peak/Calf Canyon Fire Assistance interim final rule. FEMA is issuing this public meeting notification to inform the public that FEMA is seeking input on the procedures for claimants to seek compensation for injury or loss of property resulting from the Hermit's Peak/Calf Canyon Fire.

DATES: Written comments in response to these public meetings may be submitted until 11:59 p.m. Eastern Time (ET) on January 13, 2023. Late-filed comments will be considered to the extent practicable. FEMA will hold additional meetings on:

January 4, 2023, 5:30-7:00 p.m. MDT, Peñasco, New Mexico

January 9, 2023, 5:30-7:00 p.m. MDT, Angel Fire, New Mexico

Depending on the number of speakers, the meetings may end before the time indicated, following the last call for comments.

ADDRESSES: The additional public meetings will be held at the following locations:

January 4, 2023 meeting at 13 School Road, Peñasco, NM 87553

January 9, 2023 meeting at 1 First National Place, Angel Fire, NM 87710

Reasonable accommodations are available for people with disabilities. To request a reasonable accommodation, contact the person listed in the FOR FURTHER INFORMATION CONTACT section below as soon as possible. Last minute requests will be accepted but may not be possible to fulfill. Written comments related to these public meetings must be submitted through the Federal eRulemaking Portal at https://www.regulations.gov. Search for FEMA-2022-0037 and follow the instructions for submitting comments. All written comments received, including any personal information provided, may be posted without alteration at https://www.regulations.gov. All comments on the request for information made during the meetings will be posted to https://www.regulations.gov, Docket ID FEMA-2022-0037.

FOR FURTHER INFORMATION CONTACT: Angela Gladwell, Office of Response and Recovery, 202-646-3642, FEMA-Hermits-Peak@fema.dhs.gov. Persons with hearing or speech challenges may access this number through TTY by calling the toll-free Federal Relay Service at 800-877-8339.

SUPPLEMENTARY INFORMATION: On September 30, 2022, President Biden signed into law the Hermit's Peak/Calf Canyon Fire Assistance Act (“Act”) as part of the Continuing Appropriations and Ukraine Supplemental Appropriations Act, 2023, Public Law 117-180, 136 Stat. 2114 (2022). The Act provides compensation to injured persons impacted by the Hermit's Peak/Calf Canyon Fire (Fire). It requires FEMA to design and administer a claims program to compensate victims, for injuries resulting from the fire and to provide for the expeditious consideration and settlement for those claims and injuries. The Act further directs FEMA to establish an arbitration process for disputes regarding claims.

On November 14, 2022, FEMA published an interim final rule (IFR) establishing the procedures for the processing and payment of claims to those injured by the Fire sustaining property, business, and/or financial losses.¹ The IFR requested public comment on these procedures through January 13, 2022. FEMA's procedures in this IFR are generally consistent with prior processes established for claims associated with the Cerro Grande Fire Assistance Act.² The first step in the claims process under this IFR (see, 44 CFR part 296) is for the claimant to file a Notice of Loss with the Office of Hermit's Peak/Calf Canyon Fire Claims (“Claims Office”). After receipt and acknowledgement by the Claims Office, a Claims Reviewer will contact the claimant to review the claim and help the claimant formulate a strategy for obtaining any necessary supporting documentation to complete the Proof of Loss. After discussion of the claim with the Claims Reviewer, the claimant will review and sign a Proof of Loss and submit it to the Claims Office. The Claims Reviewer will submit a report to the Authorized Official for review to determine whether compensation is due to the claimant. Once that review is completed, the Authorized Official's written decision will be provided to the claimant. If satisfied with the decision, the claimant will receive payment after returning a completed Release and Certification Form. If the claimant is not satisfied with the decision, they may file an Administrative Appeal with the Director of the Claims Office. If the claimant is not satisfied after appeal, the dispute may be resolved through binding arbitration or heard in the United States District Court for the District of New Mexico.

¹ 87 FR 68085.

² The Cerro Grande Fire Assistance Act (Pub. L. 106-246 (2001)) required FEMA to design and administer a program for fully compensating those who suffered injuries resulting from the Cerro Grande Fire. The Cerro Grande fire resulted from a prescribed fire ignited on May 4, 2000, by National Park Service fire personnel at the Bandelier National Monument, New Mexico under an approved prescribed fire plan. That fire burned approximately 47,750 acres and destroyed over 200 residential structures. The Cerro Grande Fire Assistance Act process is detailed in an interim final rule (65 FR 52259 (Aug. 27, 2000)) and a final rule (66 FR 15847 (Mar. 21, 2001)) that is now codified at 44 CFR part 295.

The IFR also announced that FEMA would hold four in-person public meetings to seek feedback on the procedures for processing and payment of claims to those injured by the Fire sustaining property, business, and/or financial loss. This document announces that FEMA will hold two additional public meetings. FEMA is holding these additional public meetings to ensure that all interested parties have sufficient opportunity to provide comments on the IFR during the comment period. FEMA received a request to provide video conferencing at upcoming public meetings. As these meetings are not held in FEMA facilities, the Agency is unable to offer video conferencing. Transcripts of the meetings will be posted to the public docket and FEMA will also post transcripts of the meetings to https://www.fema.gov/hermits-peak. FEMA will carefully consider all relevant comments received during the public meetings and during the IFR comment period closing on January 13, 2023. All comments or remarks provided on the request for information during the meeting will be transcribed and posted to the rulemaking docket on https://www.regulations.gov.

Erik A. Hooks,
Deputy Administrator, Federal Emergency Management Agency.

[FR Doc. 2022-26814 Filed 12-8-22; 8:45 am]

BILLING CODE 9111-68-P